ENVIRONMENTAL PROTECTION AGENCY

[OECA-2004-0027; FRL-7823-3]

Agency Information Collection Activities; Submission to OMB for Review and Approval; Comment Request; Evaluation of PrintSTEP (Renewal); EPA ICR Number 1941.03, OMB Control Number 2020-0023

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request to renew an existing approved collection. This ICR is scheduled to expire on October 31, 2004. Under OMB regulations, the Agency may continue to conduct or sponsor the collection of information while this submission is pending at OMB. This ICR describes the nature of the information collection and its estimated burden and cost.

DATES: Additional comments may be submitted on or before November 3, 2004.

ADDRESSES: Submit your comments, referencing docket ID number OECA-2004-0027, to: (1) EPA online using EDOCKET (our preferred method), by e-mail to docket.oeca@epa.gov, or by mail to: EPA Docket Center, Environmental Protection Agency, Enforcement and Compliance Docket and Information Center, Mail Code: 2201T, 1200 Pennsylvania Ave., NW., Washington, DC 20460; and (2) OMB at: Office of Information and Regulatory Affairs, Office of Management and Budget (OMB), Attention: Desk Officer for EPA, 725 17th Street, NW., Washington, DC 20503.

FOR FURTHER INFORMATION CONTACT: Maureen Lydon, Office of Compliance, Mail Code 2221A, Environmental Protection Agency, 1200 Pennsylvania Ave., NW., Washington, DC 20460; telephone number: (202) 564-4046; fax number: (202) 564-0027; e-mail address: lydon.maureen@epa.gov.

SUPPLEMENTARY INFORMATION: EPA has submitted the following ICR to OMB for review and approval according to the procedures prescribed in 5 CFR 1320.12. On May 13, 2004 (69 FR 26598), EPA sought comments on this ICR pursuant to 5 CFR 1320.8(d). EPA received no comments.

EPA has established a public docket for this ICR under Docket ID No. OECA-2004-0027, which is available for public viewing at the Enforcement and Compliance Docket and Information Center in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Enforcement and Compliance Docket and Information Center is (202) 566-1752. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: Evaluation of PrintSTEP (Renewal).

Abstract: Information will be collected for the evaluation of the PrintSTEP pilot program in New Hampshire and St. Louis, Missouri. PrintSTEP stands for “Printers Simplified Total Environmental Partnership” and is the first simplified program for managing the various environmental regulatory requirements for printers. PrintSTEP's two-year pilot has four features: operational flexibility, incentives for and assistance with pollution prevention activities, regulatory simplification, and public participation. The evaluation will determine the extent to which the goals of the pilot program are met. These goals are: enhanced environmental protection; increased use of pollution prevention practices; simplified regulatory process for printers; improved efficiency of administration of state agencies; enhanced public involvement; participants realize benefits and are motivated to participate in PrintSTEP; and cost effectiveness for all stakeholders. The evaluation encompasses a baseline survey, mid-point review, and end-of-pilot survey. The baseline survey and mid-point review will have been completed by the time the current ICR expires. So, the proposed ICR is necessary for the end-of-pilot survey of the 56 printers voluntarily participating in the pilot. There are also 2 state agencies implementing the pilot which will assist the participating printers, provide supplementary data to EPA and answer some end-of-pilot survey questions directed towards the states. The lessons learned from the pilot will be shared with states interested in establishing PrintSTEP-like programs and may be translated into a guide for developing, implementing and evaluating pilot programs.

An agency may not conduct or sponsor, and a person is not required to respond to, a collection of information unless it displays a currently valid OMB control number. The OMB control numbers for EPA's regulations in 40 CFR are listed in 40 CFR part 9 and are identified on the form and/or instrument, if applicable.

Burden Statement: The annual public reporting and recordkeeping burden for this collection of information is estimated to average 2.5 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: The affected entities are the 56 printing facilities which are participating in the PrintSTEP pilot in New Hampshire and St. Louis, Missouri, as well as the 2 State agencies implementing the pilots.

Estimated Number of Respondents: 58.

Frequency of Response: One-time response at the end of the pilot (including response to telephone survey and submission of written information).

Estimated Total Annual Hour Burden: 143 hours.

Estimated Total Annual Cost: $5,000, includes $0 annual capital/startup and $O&M costs.

Changes in the Estimates: There is a decrease of 1,857 hours in the total estimated burden currently identified in the OMB Inventory of Approved ICR Burdens. Originally, the evaluation approach was going to include the use of a control group of printers. It was determined that this approach was not feasible. The decrease in hours is the result of not using a control group, as well as knowing the final number of printers who will be subject to the evaluation.

Dated: September 22, 2004.
Oscar Morales,
Director, Collection Strategies Division.

[FR Doc. 04-22255 Filed 10-1-04; 8:45 am]

BILLING CODE 6560-50-P